DEPARTMENT OF COMMERCE

International Trade Administration

[A-583-816]

Notice of Extension of Final Results of Antidumping Duty Administrative Review: Certain Stainless Steel Butt-Weld Pipe Fittings from Taiwan

AGENCY: Import Administration, International Trade Administration, Department of Commerce.

ACTION: Notice of extension of final results of antidumping duty administrative review.

EFFECTIVE DATE: November 2, 2001.

FOR FURTHER INFORMATION CONTACT: Alex Villanueva or James Doyle, Office IX, DAS Group III, Import Administration, International Trade Administration, U.S. Department of Commerce, 14th Street and Constitution Avenue NW, Washington, DC 20230; telephone

(202) 482-6412 and (202) 482-0159, respectively.

Extension of Final Results

The Department of Commerce (“the Department”) is postponing the final results in the antidumping duty administrative review of Certain Stainless Steel Butt-Weld Pipe Fittings (“SSBWPF”) from Taiwan. The deadline for issuing the final results in this administrative review is currently November 9, 2001.

On July 31, 2000, the Department published a notice of initiation of this antidumping duty administrative review for the period of June 1, 2000 through May 31, 2001. See Notice of Initiation of Antidumping or Countervailing Duty Administrative Reviews and Requests for Revocation in Part 65 FR 46687 (July 31, 2000). On July 12, 2001, the Department published the preliminary results of this review (66 FR 36555). The date for issuing the final results of the review is currently November 9, 2001.

Section 751(a)(3)(A) of the Act states that if it is not practicable to complete the final results within 120 days from the date of publication of the preliminary results, the administering authority may extend the period within which to issue its final results by an additional 60 days. Completion of the final results within the 120-day period is impracticable for the following reasons: (1) This review involves certain complex United States indirect selling expense issues including, but not limited to, financial statements and interest expenses; (2) this review involves certain complex Constructed Export Price (“CEP”) adjustments including, but not limited to, CEP profit and CEP offset; (3) this review involves certain complex warehouse expenses in the United States including, but not limited to, inland freight and inventory; (4) there is a concurrent scope analysis underway in this same proceeding.

Because it is not practicable to complete the review within the time specified, we are extending the time limit for the final results of the administrative review of SSBWPF from Taiwan by 30 days, in accordance with section 751(a)(3)(A) of the Tariff Act of 1930, as amended.

The date for issuing the final results is extended from November 9, 2001 to December 9, 2001.

Dated: October 25, 2001.
Edward C. Yang,
Acting Deputy Assistant Secretary for Import Administration.

[FR Doc. 01-27620 Filed 11-1-01; 8:45 am]

BILLING CODE 3510-DS-P